DEPARTMENT OF ENERGY

Federal Energy Regulatory Commission

[Docket No. ER00-2887-001]

Newark Bay Cogeneration Partnership, L.P.; Notice of Filing

June 29, 2000

Take notice that on June 29, 2000, Newark Bay Cogeneration Partnership, L.P. (NBCP) tendered for filing with the Commission an amendment to its proposed FERC Electric Tariff, Original Volume No. 1, filed on June 19, 2000 in the above-referenced docket. The amendment clarifies language concerning the prohibition on sales to affiliates with franchised service territories.

NBCP intends to engage in wholesale electric power and energy purchases and sales.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before July 10, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-17055 Filed 7-5-00; 8:45 am]

BILLING CODE 6717-01-M